DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of a meeting of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, NIAAA.

Date: June 14-15, 2007.

Open: June 14, 2007, 7:30 a.m. to 7:45 a.m.

Agenda: Personal qualifications and performance, and competence of individual.

Place: National Institutes of Health, Clinical Center, 9000 Rockville Pike, Room 2C116, Bethesda, MD 20892.

Closed: June 14, 2007, 7:45 a.m. to 6:40 p.m.

Agenda: To review and evaluate unit of Primate studies (LCTS) and Lab of Neuroimaging.

Place: National Institutes of Health, Clinical Center, 9000 Rockville Pike, Room 2C116, Bethesda, MD 20892.

Closed: June 15, 2007, 8 a.m. to 6 p.m.

Agenda: To review and evaluate Lab of Clinical and Translational Studies and two Tenure Track Investigators, Lab of Neurogenetics (LNG).

Place: National Institutes of Health, Clinical Center, 9000 Rockville Pike, Room 2C116, Bethesda, MD 20892.

Contact Person: Trish Scullion, Chief of Administrative Branch, National Institute of Health, National Institute on Alcohol Abuse and Alcoholism, 5635 Fishers Lane, Room 3061, Rockville, MD 20852, 301-443-6076.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)

Dated: April 30, 2007.
Jennifer Spaeth,
Director, Office of Federal Advisory Committee Policy.

[FR Doc. 07-2216 Filed 5-4-07; 8:45 am]

BILLING CODE 4140-01-M